DEPARTMENT OF EDUCATION

School Dropout Prevention Program

AGENCY: Office of Vocational and Adult Education, Department of Education.

ACTION: Notice of final priorities, requirements, definitions, and selection criteria.

SUMMARY: The Assistant Secretary for Vocational and Adult Education announces priorities, requirements, definitions, and selection criteria under the School Dropout Prevention (SDP) program. The Assistant Secretary may use one or more of these priorities, requirements, definitions, and selection criteria for competitions in fiscal year (FY) 2005 and later years. We take this action to further the purpose of the SDP program, which is to support the development and implementation of effective, sustainable, and coordinated school dropout prevention and reentry programs.

DATES: These final priorities, requirements, definitions, and selection criteria are effective August 8, 2005.

FOR FURTHER INFORMATION CONTACT: Valerie Randall-Walker, U.S. Department of Education, 400 Maryland Avenue, SW., Potomac Center Plaza, room 11081, Washington, DC 20202-7241. Telephone: (202) 245-7794 or via Internet: dropoutprevention@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Background

With the enactment of the No Child Left Behind Act of 2001 (NCLB), our Nation made a commitment to closing the achievement gap between disadvantaged and minority students and their peers and to changing the culture of America's schools so that all students receive the support and high-quality instruction they need to meet higher expectations. A critical part of this challenge, at the high school level, is reducing the number of young people who disengage and drop out of school. As several recent national studies have found, a staggering number of youth fail to graduate on time.

The complexity of the dropout problem requires the attention of multiple agencies because numerous factors contribute to a student's decision to drop out. Therefore, successful dropout prevention and reentry activities should involve many agencies and community organizations and institutions in strong collaborative activities. By combining their expertise and resources, these entities can achieve much more than they could individually. Through these priorities, requirements, definitions, and selection criteria, we limit eligibility for SDP funding to State educational agencies (SEAs) and, under Priority 1, give priority to an SEA that partners with other public or private agencies in its efforts to reduce the dropout rate in high schools (grades 9 through 12) where the annual dropout rate exceeds the State average.

Another vital element for successful dropout prevention and reentry programs is the early identification of at-risk students and the implementation of a customized set of services and interventions that address the needs of those students. Priority 2 supports projects in which applicants work with local educational agencies (LEAs) to use eighth grade assessment and other data to identify those students who could benefit from intensive early assistance. We intend that, by incorporating these strategies into the SDP program, the Department will make grants to SEAs for activities that have the highest probability of reducing dropout rates.

We published a notice of proposed priorities, requirements, definitions, and selection criteria for this program in the Federal Register on May 13, 2005 (70 FR 25556) (NPP). Except for minor editorial and technical revisions, there are no differences between the NPP and this notice of final priorities, requirements, definitions, and selection criteria (NFP).

Analysis of Comments and Changes

In response to our invitation in the NPP, two parties submitted three comments on the proposed priorities. An analysis and discussion of the comments and our responses follows.

Generally, we do not address technical and other minor changes and suggested changes the law does not authorize us to make under the applicable statutory authority.

Comment: One commenter asked whether SEAs could partner with juvenile justice or other criminal justice agencies to satisfy the collaboration requirement of the SDP project.

Discussion: As specified in the NPP, juvenile justice or criminal justice agencies are among the agencies with which SEAs may partner in carrying out the SDP project.

Changes: None.

Comments: One commenter asked whether applicants could consider information other than eight grade assessment data to identify students who are at risk of failing to meet challenging State academic standards and dropping out of high school. The commenter also suggested that we identify specific factors that may place a student “at-risk” in the Requirements or Definitions section.

Discussion: Priority 2 supports projects in which applicants work with LEAs to assist schools in using eighth grade assessment and other data to develop and implement individual performance plans for students who are at risk of failing to meet challenging State academic standards and of dropping out of school. It does not limit applicants to using only eighth grade assessment data to identify students who may need assistance. Although researchers have identified a large number of non-academic “risk” factors that appear to be correlated with dropping out of high school, such as, for example, having a sibling who has dropped out of school or a parent who receives public assistance, there is little consensus about the relative significance of these factors or a good understanding of how they may interact with other observed and unobserved factors that may contribute to an individual's decision to drop out of high school. We decline, therefore, to require or encourage applicants to use any specific non-academic “risk” factors in identifying students for whom the development of individual performance plans is appropriate. We defer to applicants to determine what information they will use in addition to eighth grade assessment data to identify students who are at-risk of failing to meet State academic standards and dropping out of high school.

Changes: None.

Comment: One commenter suggested amending the definition of a high school dropout to clarify that it excludes individuals who may not only have formally transferred to another public school district, a nonpublic school, or a State-approved educational program, but who may have enrolled in one of these three alternatives.

Discussion: Section 1829 of the Elementary and Secondary Education Act, as amended (ESEA) requires applicants to use the annual event school dropout rate as determined in accordance with the National Center for Education Statistics' (NCES’) Common Core of Data. SEAs must use funds awarded under this program to support activities in schools that have annual school event dropout rates higher than the State average event dropout rate. The definition that must be used in this competition is the definition used by NCES.

Changes: None.

Note: This notice does not solicit applications. In any year in which we choose to use these priorities, requirements, definitions, and selection criteria, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)) or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1—Collaboration With Other Agencies

Under this priority, an applicant must include in its application evidence that other public or private entities will be involved in, or provide financial support for, the implementation of the activities described in the application. Applicants may involve such State agencies as those responsible for administering postsecondary education, Title I of the Workforce Investment Act, Temporary Assistance for Needy Families, Medicaid, the State Children's Health Insurance Program, foster care, juvenile justice, and others. Applicants also may collaborate with business and industry, civic organizations, foundations, and community- and faith-based organizations, among other private-sector entities. Acceptable evidence of collaboration is a memorandum of understanding or other document signed by the principal officer of each participating agency that identifies (1) how the agency will be involved in the implementation of the project or (2) the financial resources (cash or in-kind) that it will contribute to support the project, or both.

Priority 2—Individual Performance Plans for At-Risk Incoming Ninth Grade Students

Under this priority, an applicant must work with LEAs to assist schools in using eighth grade assessment and other data to develop and implement (in consultation with parents, teachers, and counselors) individual performance plans for students entering the ninth grade who are at-risk of failing to meet challenging State academic standards and of dropping out of high school. The plans must identify specific interventions to improve the academic achievement of these students and other supports and services they need in order to succeed in high school.

Additional Requirements

The Assistant Secretary announces the following requirements for the SDP program. We may apply these requirements in any year in which this program is in effect.

Eligibility Requirement—State Educational Agencies

To be eligible for funding under this program, an applicant must be an SEA, as defined in 34 CFR 77.1.

Evaluation Requirements

We require that each applicant include in its application a plan to support an independent, third-party evaluation of its SDP project and that the applicant reserve not less than 10 percent of its grant award for this evaluation. At a minimum, the evaluation must—

(a) Be both formative and summative in nature;

(b) Include performance measures that are clearly related to the intended outcomes of the project and the Government Performance and Results Act (GPRA) indicators for the SDP program described elsewhere in this notice;

(c) Measure the effectiveness of the project, including a comparison between the intended and observed results and, if appropriate, a demonstration of a clear link between the observed results and the specific treatment given to project participants;

(d) Measure the extent to which the SEA implements an effective, sustainable, and coordinated school dropout prevention and reentry program; and

(e) Measure the extent to which the project implements research-based strategies and practices.

In addition, applicants must submit their proposed project evaluation designs to the Department for review and approval prior to the end of the second month of the project period.

Each evaluation must include: (i) an annual report for each of the first two years of the project period, and (ii) a final report that would be completed at the end of the third year of implementation and that would include information on implementation during the third year as well as information on the implementation of the project across the entire project period. Each grantee must submit each of these annual reports to the Department along with its required annual performance report.

Performance Measures Requirements

Under the GPRA, the Department is currently using the following two performance measures to assess the effectiveness of the SDP program: (1) the dropout rate in schools receiving program funds, and (2) the percentage of students reentering schools who complete their secondary education. Applicants for a grant under this program are advised to consider these two performance measures in conceptualizing the approach and evaluation of their proposed project. To assist the Department in assessing progress under the first measure, an applicant must use its State event dropout rate as the GPRA indicator and submit, as part of its application to the Department, a projected State event dropout rate, for each year of the project. If funded, applicants would then be asked to collect and report data for this indicator in their performance and final reports for each year of the project. We will notify grantees if they will be required to provide any additional information related to the two measures.

Requirements for Accountability for Results

Applicants must identify in their applications at least two specific performance indicators and annual performance objectives for the schools that receive services and technical assistance through projects funded under this program, in addition to the two GPRA indicators. Applicants may identify and report on additional student indicators, such as graduation rates; year-to-year retention; rates of average daily attendance; the percentage of secondary school students who score at the proficient or advanced levels on the reading/English language arts and mathematics assessments used by the State to measure adequate yearly progress under Part A of Title I of the Elementary and Secondary Education Act of 1965, as amended (ESEA); student achievement and gains in English proficiency; and the incidence of school violence, drug and alcohol use, and disciplinary actions.

Applicants must identify annual performance objectives for the two GPRA indicators and the two additional indicators identified in the application. The Department intends to negotiate these performance levels with potential grantees.

Applicants must identify all outcomes in their evaluation plan that are relevant to the scope of the project and will assist in continuous improvement of the services offered.

Definitions

In addition to the definitions in the authorizing statute and 34 CFR 77.1, the following definitions also apply to this program. We may apply these definitions in any year in which we conduct a SDP competition.

High school dropout means an individual who—

(a) Was enrolled in a district in grades 9 through 12 at some time during the preceding school year;

(b) Was not enrolled at the beginning of the current school year;

(c) Has not graduated or completed a program of studies by the maximum age established by a State;

(d) Has not transferred to another public school district, a nonpublic school, or a State-approved educational program; and

(e) Has not left school because of death, illness, or a school-approved absence.

State event dropout rate means the dropout rate calculated by dividing the number of high school dropouts (as defined elsewhere in this notice) in the State by the total number of students enrolled in grades 9 through 12 in public schools in the State during the current school year. This calculation is based upon the annual school event dropout rate calculation of the National Center for Education Statistics' Common Core of Data.

School event dropout rate means the dropout rate calculated by dividing the number of high school dropouts (as defined elsewhere in this notice) in a school by the total number of students enrolled in grades 9 through 12 in that school during the current school year.

Selection Criteria

We establish the following selection criteria to evaluate applications for new grants under this program. We may apply these selection criteria in any year we conduct a SDP competition.

Quality of Project Design

In determining the quality of the project design, we will consider the extent to which—

(a) The applicant demonstrates its readiness to implement a comprehensive and coordinated statewide dropout and reentry program;

(b) The activities described in the application are evidence-based and likely to be successful in improving the graduation rate within the State, particularly among youth who are at the greatest risk of dropping out;

(c) Other public and private agencies will support and participate in the implementation of the proposed project; and

(d) The technical assistance activities that will be undertaken by the applicant are likely to be successful in helping local educational agencies use eighth grade assessment and other data to develop individual performance plans for entering ninth graders who are at risk of failing to meet challenging State academic standards and of dropping out of high school.

Adequacy of Resources

In determining the adequacy of resources for the proposed project, we consider the following factors:

(a) The extent of the cash or in-kind support the SEA will provide.

(b) The extent of the cash or in-kind support other public and private agencies will contribute to the implementation of the proposed project.

Quality of the Management Plan

In determining the quality of the management plan for the proposed project, we consider the adequacy of the management plan to achieve the objectives of the proposed project on time and within budget, including the extent to which the plan clearly defines the roles and responsibilities of each agency and its key personnel and establishes detailed timelines and milestones for accomplishing each of the project tasks.

Quality of the SDP Project Evaluation

In determining the quality of the evaluation, we consider the following factors:

(a) The extent to which the methods of evaluation will yield accurate and reliable data for each of the required performance indicators.

(b) The extent to which the evaluation will produce reports or other documents at appropriate intervals to enable the agencies, organizations, or institutions participating in the project to use the data for planning and decisionmaking for continuous program improvement.

(c) Whether the independent third-party evaluator identified in the application has the necessary background and expertise to carry out the evaluation.

Executive Order 12866

This NFP and selection criteria has been reviewed in accordance with Executive Order 12866. Under the terms of the order, we have assessed the potential costs and benefits of this regulatory action.

The potential costs associated with the NFP are those resulting from statutory requirements and those we have determined as necessary for administering this program effectively and efficiently.

In assessing the potential costs and benefits—both quantitative and qualitative—of this NFP, we have determined that the benefits of the NFP justify the costs.

We also have determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index/html.

Program Authority: 20 U.S.C. 6551, et seq.

(Catalog of Federal Domestic Assistance Number 84.360A School Dropout Prevention Program)
Dated: July 5, 2005.
Susan Sclafani,
Assistant Secretary for Vocational and Adult Education.

[FR Doc. 05-13579 Filed 7-7-05; 8:45 am]

BILLING CODE 4000-01-P